DEPARTMENT OF AGRICULTURE

Forest Service

Gold/Boulder/Sullivan; Kootenai National Forest, Lincoln County, Montana

AGENCY: Forest Service, USDA.

ACTION: Notice of intent to prepare an environmental impact statement.

SUMMARY: The USDA—Forest Service will prepare an Environmental Impact Statement (EIS) for the Gold/Boulder/Sullivan Project to disclose the effects of vegetative management using timber harvest and prescribed fire, and road management including road reconstruction, temporary construction, and decommissioning. The Gold/Boulder/Sullivan Decision Area encompasses the Gold Creek, Boulder Creek, and Sullivan Creek drainages, approximately 12 miles southwest of Eureka, Montana.

Wildfire suppression policies over the past 80 years have resulted in vegetative conditions in low elevation stands which include higher-than-normal tree densities and fuels levels. These increase the risk of insect and disease infestations and stand replacement wildfire. Three wildfires occurred in the Decision Area during August 2000, resulting in significant tree mortality and contributing to increased fuel loads.

The proposed activities are considered together because they represent either connected or cumulative actions as defined by the Council on Environmental Quality (40 CFR 1508.23). The purpose and need for action is to achieve desirable and sustainable conditions in forest stands, reduce fuels, improve big game winter range conditions, contribute to natural recovery processes to reduce impacts to soil and water resources, maintain and enhance scenic quality, and provide goods and services.

The EIS will tier to the Kootenai National Forest Land and Resource Management Plan, as amended, and the Final Environmental Impact Statement and Record of Decision of September 1987, which provides overall guidance for forest management of the area.

DATES: Written comments and suggestions should be received on or before January 22, 2001.

ADDRESSES: The Responsible Official is Bob Castenada, the Kootenai National Forest Supervisor, 1101 U.S. Highway 2 West, Libby, MT 59923. Written comments and suggestions concerning the scope of the analysis should be sent to Glen M. McNitt, District Ranger, Rexford Ranger District, 1299 U.S. Highway 93 N, Eureka, MT 59917.

FOR FURTHER INFORMATION CONTACT: Contact Ron Komac, Acting NEPA Coordinator, Rexford Ranger District, Phone: (406) 296-2536.

SUPPLEMENTARY INFORMATION: The Decision Area contains approximately 40,100 acres, and has a favorable climate and good site conditions for forest vegetation. Proposed activities within the Decision Area include portions of the following areas: T34-36N; R28-30W.

Average annual precipitation ranges from 14 to 100 inches. At higher elevations, most precipitation falls as snow. The Decision Area contains a combination of open-grown ponderosa pine and Douglas-fir in the lower elevations, adjacent to Lake Koocanusa. Upland areas contain multistoried western larch/Douglas-fir intermixed with lodgepole pine, as well as uniform lodgepole pine stands.

Wildfire historically played a role in interrupting forest succession and creating much of the vegetative diversity that is apparent on the landscape today. Since the early 1900's, a policy of wildfire suppression has been in place on National Forest lands, interrupting the natural vegetation cycle. Stands of tress in the lower elevations of the Decision Area have a higher stocking level than occurred naturally, and are dominated by Douglas-fir, which is susceptible to bark beetles and root disease when stressed. Lodgepole pine stands in the upper elevations have experienced a high level of mortality due to mountain pine beetles, and are not contributing toward a desired condition of forest health.

A portion of the Decision Area is highly visible from the Tobacco Valley as well as the Scenic Byways (State Highway 37 and Forest Development Road #228). A portion of the Mount Henry Inventoried Roadless Area is included within the Decision Area. There are no treatments proposed for this area.

The Kootenai National Forest Land and Resource Management Plan provides overall management objectives in individually delineated management areas (MAs). Most of the proposed timber harvest activities encompass five MAs: 11, 12, 15, 16, and 17. Briefly described, MA 11 is managed to maintain or enhance the winter range habitat effectiveness for big game species and produce a programmed yield of timber. MA 12 is managed to maintain or enhance the summer range habitat effectiveness for big game species and produce a programmed yield of timber. MA 15 focuses upon timber production using various silvicultural practices while providing for other resource values. MA 16 is managed to produce timber while providing for a pleasing view. MA 17 is managed to maintain or enhance a natural appearing landscape and produce a programmed yield of timber. Minor amounts of timber harvest and/or other proposed activities such as prescribed burning are found in other MAs including 2 (semi-primitive non-motorized recreation); 5 (viewing areas); 10 (big game winter range); 13 (old growth), and 21 (research natural area).

Purpose and Need: The purpose and need for the project is to: (1) Achieve desirable and sustainable conditions in forest stands by reducing stand densities, maintaining and enhancing desirable species composition, structure, and size, and reducing the risk of insect and disease epidemics; (2) reduce natural fuel accumulations in lower-to-mid elevation stands, and expected fuel loads in stands impacted by the wildfires of 2000, to contribute to increased firefighter safety and help protect forest users and forest resources; (3) improve big game winter range conditions by rejuvenating forage species; (4) contribute to natural recovery processes in order to reduce impacts to soil and water resources; (5) maintain and enhance visual quality by reducing line and form and emulating naturally appearing patterns on the landscape; and (6) respond to the social and economic desires of the surrounding communities by providing a range of products while maintaining a resilient, sustainable forest environment over time.

Proposed Activities: The Forest Service proposes to harvest approximately 70,700 CCF (hundred cubic feet), equivalent to approximately 28.9 MMBF (million board feet) of timber through the application of a variety of harvest methods on approximately 4,465 acres of forestland. Silvicultural systems include regeneration harvest (approximately 2,000 acres), improvement harvest (approximately 1,760 acres), salvage harvest (approximately 215 acres), removal of small diameter material (approximately 160 acres), and roadside salvage (approximately 330 acres). Some treatments would feather or thin stands adjacent to existing units with abrupt edges to improve the visual setting for outdoor recreation and viewing.

Removal of trees would be accomplished by a variety of methods including tractor, helicopter, and line skidding operations. Approximately 1 mile of temporary roads would be needed to access some units to be harvested with ground-based systems. These roads would be obliterated after timber sale activities are accomplished.

The proposed action would result in approximately seventeen additional openings over 40 acres, ranging from 46 to 203 acres. The sizes of approximately nine other large openings would be increased, ranging from 55 to 464 acres. A 60-day public review period, and approval of the Regional Forester for exceeding the 40 acre limitation for regeneration harvest, would be required prior to the signing of the Record of Decision. This 60-day period is initiated with this Notice of Intent.

The proposal also includes approximately 4,465 acres of prescribed burning in association with commercial timber harvest, and approximately 1,930 acres of prescribed burning without commercial timber harvest. Prescribed burning without timber harvest is proposed within MA 13 (designated old growth).

The proposal includes reconstructing approximately 120 miles of road in order to meet Best Management Practices requirements, and decommissioning approximately 21 miles of closed roads to restore natural drainage patterns.

Implementation of this proposal would require opening several miles of road currently restricted to public access. It is expected that public access would be allowed on a portion of these roads while management activities are occurring. Restrictions for motorized access would be restored following the conclusion of the management activities.

The proposed action includes precommercial thinning of sapling-sized trees on approximately 600 acres within managed plantations and natural stands that have regenerated after wildfire. Precommercial thinning would not occur in lynx habitat.

Forest Plan Amendments: The proposed action includes several project-specific Forest Plan amendments and a programmatic Forest Plan amendment necessary to meet the project's objectives:

A project-specific amendment to allow timber harvest in MA 2. A Forest Plan amendment would be needed to suspend Timber Standard #2 for this area. The standard states that timber harvest will not occur. Timber harvest would be used to reduce the visual effects of the fire by blending the affected area with the surrounding vegetation to achieve a more naturally appearing landscape.

A project-specific amendment to allow harvest adjacent to existing openings in up to 6 big game movement corridors in MA 12. A Forest Plan amendment would be needed to suspend Wildlife and Fish Standard #7 and Timber Standard #2 for this area. These standards state that movement corridors and adjacent hiding cover be retained. In this situation, high levels of mountain pine beetle activity have precluded alternative treatments. These opening sizes more closely correlate to natural disturbance patterns. Snags and down woody material would be left to provide wildlife habitat and maintain soil productivity.

A project-specific amendment to allow vegetation management in MA 21. A Forest Plan amendment would be needed to suspend Timber Standard #2 for the Big Creek area. The standard states that timber harvest will not occur. The Cliff Point fire burned through the area in August 2000. Some light salvage would be needed for fuel reduction purposes. Any management proposals would be conducted with the full involvement of Forest Service Research.

A programmatic amendment to allow long-term MA 12 open road density to be managed at 1.1 miles/square mile, which exceeds the Facilities standard of 0.75 miles/square mile. The roads currently open access high-use recreation facilities or are important access routes for forest users and have been managed as open roads for several decades. There is a social need to maintain these roads as open to motorized access.

Range of Alternatives: The Forest Service will consider a range of alternatives. One of these will be the “no action” alternative, in which none of the proposed activities will be implemented. Additional alternatives will be considered to achieve the project's purpose and need for action, and to respond to specific resource issues and public concerns.

Preliminary Issues: Several issues of concern have been identified. These are briefly described below:

Transportation Systems: The Proposed Action includes approximately 21 miles of roads to be decommissioned. A portion of these roads may be permanently removed from the landscape, which may affect the public's ability to use traditional routes. All of these roads are currently restricted to motorized access.

Visual Resources: Implementation of the proposed action may alter the existing scenic resource within the Decision Area. Although the proposed action is designed to maintain and enhance the visuals of past harvest activities and recent wildfires, some members of the public may feel that it will have additional scenic impacts.

Wildlife: The proposed action could potentially reduce cavity habitat in snags and suitable hiding cover for wildlife security.

Management activities in a Research Natural Area (RNA): Typically, timber harvest is not permitted within a RNA. In this particular case, salvage is necessary to reduce fuels loads to aid in moving the area towards open grown stands of large ponderosa pine and western larch.

Decisions To Be Made: The Kootenai Forest Supervisor will decide the following:

• Whether or not to harvest timber and, if so, identify the selection of, and site-specific location of, appropriate timber management practices (silvicultural prescription, logging system, fuels treatment, and reforestation), and road construction necessary to provide access and to achieve other resource objectives, and appropriate mitigation measures.

• Whether or not soil and water resource improvement projects (including road reconstruction and decommissioning) should be implemented and, if so, to what extent.

• Whether or not wildlife enhancement projects (including prescribed burning) should be implemented and, if so, to what extent.

• Whether road access restrictions or other actions are necessary to meet big game wildlife security needs.

• Whether or not programmatic and project-specific Forest Plan amendments are necessary to meet the specific purpose and need of this project, and whether those amendments are significant under the National Forest Management Act.

• What, if any, specific-project monitoring requirements would be needed to assure mitigation measures are implemented and effective.

Public Involvement and Scoping: In November 2000, preliminary efforts were made to involve the public in looking at management opportunities within the Gold/Boulder/Sullivan Decision Area. Comments received prior to this notice will be included in the documentation for the EIS. The public is encouraged to take part in the process and is encouraged to visit with Forest Service officials at any time during the analysis, and prior to the decision. The Forest Service will be seeking information, comments, and assistance from Federal, State and local agencies, Indian tribes, individuals, and organizations that may be interested in, or affected by, the proposed action. This input will be used in preparation of the draft and final EIS'. The scoping process will assist in identifying potential issues, identifying major issues to be analyzed in depth, identifying alternatives to the proposed action, and identifying potential environmental effects of this project and alternatives (i.e., direct, indirect, and cumulative effects and connected actions).

Estimated Dates for Filing: While public participation in this analysis is welcome at any time, comments received within 30 days of the publication of this notice will be especially useful in the preparation of the Draft EIS. It is expected to be filed with the Environmental Protection Agency (EPA) and to be available for public review by May 2001. At that time EPA will publish a Notice of Availability of the draft EIS in the Federal Register. The comment period on the draft EIS will be 45 days from the date the EPA publishes the Notice Availability in the Federal Register. It is very important that those interested in the management of this area participate at that time.

The final EIS is scheduled to be completed by August 2001. In the final EIS, the Forest Service is required to respond to comments and responses received during the comment period that pertain to the environmental consequences discussed in the draft EIS, and applicable laws, regulations, and policies considered in making a decision regarding the proposal.

Reviewer's Obligations: The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage may be waived or dismissed by the courts. City of Angoon v. Hodel, 803, F2d 1016, 1022 (9th Cir. 1986) and Wisconsin Heritages, Inc. v. Harris, 490 F. Supp. 1334, 1338 (E.D. Wis. 1980). Because of these court rulings, it is very important that those interested in this proposed action participate by the close of the 30 day comment period so that substantive comments and objections are made available to the Forest Service at a time when it can meaningfully consider and respond to them in the final EIS.

To be most helpful, comments on the draft EIS should be as specific as possible, and may address the adequacy of the statement or the merit of the alternatives discussed. Reviewers may wish to refer to the Council on Environmental Quality regulations (40 CFR 1503.3) for implementing the procedural provisions of the National Environmental Policy Act.

Responsible Official: As the Forest Supervisor of the Kootenai National Forest, 1101 U.S. Highway 2 West, Libby, MT 59923, I am the Responsible Official. As the Responsible Official, I will decide if the proposed project will be implemented. I will document the decision and reasons for the decision in the Record of Decision. I have delegated the responsibility for preparing the draft and final EIS' to Glen M. McNitt, District Ranger, Rexford Ranger District.

Dated: December 8, 2000.
Bob Castaneda,
Forest Supervisor, Kootenai National Forest.

[FR Doc. 00-32437 Filed 12-20-00; 8:45 am]

BILLING CODE 3410-11-M